FEDERAL MARITIME COMMISSION

[Docket No. FMC-2023-0014]

Agency Information Collection Activities: 30-Day Public Comment Request

AGENCY: Federal Maritime Commission.

ACTION: Thirty-day notice; request for comments.

SUMMARY: The Federal Maritime Commission (Commission) is giving public notice that the agency has submitted to the Office of Management and Budget (OMB) for approval a renewal of an existing information collection related to Licensing, Financial Responsibility Requirements and General Duties for Ocean Transportation Intermediaries and Related Forms. The public is invited to comment on the information collection pursuant to the Paperwork Reduction Act of 1995.

DATES: Written comments must be submitted on or before November 3, 2023.

ADDRESSES: Comments should be submitted to: (1) the Commission through the Federal eRulemaking Portal at www.regulations.gov (docket FMC-2023-0014); and (2) the Office of Management and Budget's Office of Information and Regulatory Affairs through the portal at https://www.reginfo.gov/public/do/PRAMain.

Find this particular information collection at Reginfo.gov by selecting “Currently under Review—Open for Public Comments” or by using the search function.

If your material cannot be submitted to the addresses above, contact the person in the FOR FURTHER INFORMATION CONTACT section of this document for alternate instructions.

A copy of this notice can be found at https://www.regulations.gov/ under Docket No. FMC-2023-0014. The associated forms can be found at https://www.fmc.gov/forms-and-applications/.

FOR FURTHER INFORMATION CONTACT: Amy Strauss, Acting Secretary; Phone: (202) 523-5725; Email: secretary@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for OMB approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Previous Request for Comments

On July 18, 2023, the Commission published a notice and request for comment in the Federal Register (88 FR 45903) regarding the agency's request for approval from OMB for information collections as required by the Paperwork Reduction Act of 1995. During the 60-day period, the Commission received no comments on the request for OMB clearance.

Information Collections Open for Comment

Title: 46 CFR 515—Licensing, Financial Responsibility Requirements and General Duties for Ocean Transportation Intermediaries and Related Forms.

OMB Approval Number: 3072-0018 (Expires Dec 31, 2023).

Abstract: The Shipping Act of 1984 (the Act), 46 U.S.C. 40101-41309, as amended, provides that no person in the United States may advertise, hold oneself out, or act as an ocean transportation intermediary (OTI) unless that person holds a license issued by the Commission. The Commission shall issue an OTI license to any person that the Commission determines to be qualified by experience and character to act as an OTI. Further, no person may act as an OTI unless that person furnishes a bond, proof of insurance, or other surety in a form and amount determined by the Commission to insure financial responsibility. The Commission has implemented the Act's OTI requirements in regulations contained in 46 CFR part 515, including financial responsibility Forms FMC-48, FMC-67, FMC-68, and FMC-69, Optional Rider Forms FMC-48A and FMC-69A, its related license application Form FMC-18, and the related foreign-based unlicensed NVOCC registration/renewal Form FMC-65. This update includes an increase in number of responses received. The burden estimated per response remains the same.

Current Actions: There are no changes to this information collection.

Type of Review: Extension.

Needs and Uses: The Commission uses information obtained under this part and through Form FMC-18 to determine the qualifications of OTIs and their compliance with the Act and regulations, and to enable the Commission to discharge its duties under the Act by ensuring that OTIs maintain acceptable evidence of financial responsibility. If the collection of information were not conducted, there would be no basis upon which the Commission could determine if applicants are qualified for licensing. The Commission would also not be able to effectively assess the compliance of foreign-based, unlicensed NVOCCs without the required registration information.

Frequency: This information will be collected on an ad hoc basis.

Type of Respondents: The types of respondents are persons desiring to obtain or maintain a license or registration to advertise, hold themselves out as, or act as an OTI. Under the Act, OTIs may be either an ocean freight forwarder, an NVOCC, or both.

Number of Annual Respondents: The previous renewal in 2020 stated that the number of respondents was 8,729. Due to an increase in the number of OTIs, the Commission estimates the new number of respondents as 10,130. The distribution of responses is as follows: 750 FMC-18 filings, 1,770 OTI License renewals, 5,160 FMC-48 filings, 50 FMC-69 filings,12 FMC-48A filings, 1,560 FMC-65 registration filings, and 830 FMC-65 renewals. The Commission does not anticipate receiving any filings of FMC-67, FMC-68, or FMC-69A based on experience in recent years, and the estimate for these forms is zero. These forms are included in this renewal to remain available to respondents when applicable.

Estimated Time per Response: The average time per response to complete application Form FMC-18 is 2 hours and to complete the triennial renewal is 10 minutes. The time to complete a financial responsibility form (FMC-48, FMC-48A, FMC-67, FMC-68, FMC-69, or FMC-69A) averages 20 minutes per form. The time to complete Form FMC-65 to submit or renew a registration as a foreign-based, unlicensed NVOCC averages 15 minutes.

Total Annual Burden: 1,500 person-hours (Form FMC-18) + 1,720 person-hours (Form FMC-48) + 4 person-hours (Form FMC-48A) + 17 person-hours (Form FMC-69) + 598 person-hours (Form FMC 65 New/Renewal) + 295 person-hours (License Renewal) = 4,134 total person-hours. Total burden equals 4,134 hours.

Carl Savoy,
Program Support Specialist.

[FR Doc. 2023-22075 Filed 10-3-23; 8:45 am]

BILLING CODE 6730-02-P